NUCLEAR REGULATORY COMMISSION

[Docket No. 50-286; NRC-2012-0236]

Entergy Nuclear Operations, Inc.; Indian Point Nuclear Generating, Unit No. 3

AGENCY: Nuclear Regulatory Commission.

ACTION: License amendment application; withdrawal by applicant.

SUMMARY: The Nuclear Regulatory Commission (NRC) has granted the request of Entergy Nuclear Operations, Inc., to withdraw its application dated August 14, 2012, for a proposed amendment to Facility Operating License No. DPR-64 for Indian Point Nuclear Generating, Unit No. 3. The proposed change would have changed the licensing basis for the emergency diesel generator fuel oil storage tank requirements, revised Technical Specification (TS) 3.8.3, “Diesel Fuel Oil, and Starting Air,” and relocated the specific numerical values for fuel oil storage requirements from the TSs to the TS Bases in accordance with Technical Specification Task Force (TSTF) Traveler TSTF-501, Revision 1, “Relocate Stored Fuel Oil and Lube Oil Volume Values to Licensee Control.”

ADDRESSES: Please refer to Docket ID NRC-2012-0236 when contacting the NRC about the availability of information regarding this document. You may obtain publicly-available information related to this document using any of the following methods:

• Federal Rulemaking Web site: Go to http://www.regulations.gov and search for Docket ID NRC-2012-0236. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Douglas V. Pickett, Office of Nuclear Reactor Regulation, U.S. Nuclear Regulatory Commission, Washington, DC 20555-0001; telephone: 301-415-1364, email: Douglas.Pickett@nrc.gov.

SUPPLEMENTARY INFORMATION: The NRC has granted the request of Entergy Nuclear Operations, Inc. (the licensee), to withdraw its application dated August 14, 2012 (ADAMS Accession No. ML12234A250), for a proposed amendment to Facility Operating License No. DPR-64 for Indian Point Nuclear Generating, Unit No. 3, located in Westchester County, New York.

The proposed change would have changed the licensing basis for the emergency diesel generator fuel oil storage tank requirements, revised TS 3.8.3, “Diesel Fuel Oil, and Starting Air,” and relocated the specific numerical values for fuel oil storage requirements from the TSs to the TS Bases in accordance with TSTF-501, Revision 1, “Relocate Stored Fuel Oil and Lube Oil Volume Values to Licensee Control” (ADAMS Accession No. ML090510686).

A Notice of Consideration of Issuance of Amendment to Facility Operating License, Proposed No Significant Hazards Consideration Determination, and Opportunity for a Hearing was published in the Federal Register on October 16, 2012 (77 FR 63350). The licensee's application dated August 14, 2012, was supplemented by letters dated April 15, 2013, July 23, 2013, and April 14, 2014 (ADAMS Accession Nos. ML13116A010, ML13211A167, and ML14112A477, respectively). The licensee withdrew the application by letter dated June 25, 2015 (ADAMS Accession No. ML15187A072).

Dated at Rockville, Maryland, this 22nd day of July 2015.
For the Nuclear Regulatory Commission.
Douglas V. Pickett,
Senior Project Manager, Plant Licensing Branch I-1, Division of Operating Reactor Licensing, Office of Nuclear Reactor Regulation.

[FR Doc. 2015-18730 Filed 7-29-15; 8:45 am]

BILLING CODE 7590-01-P